SURFACE TRANSPORTATION BOARD

[Docket No. EP 519 (Sub-No. 4)]

Notice of National Grain Car Council Meeting

AGENCY: Surface Transportation Board.

ACTION: Notice of National Grain Car Council meeting.

SUMMARY: Notice is hereby given of a meeting of the National Grain Car Council (NGCC), pursuant to the Federal Advisory Committee Act.

DATES: The meeting will be held on Tuesday, August 27, 2024, beginning at 1:00 p.m. (CDT), and is expected to conclude at 5:00 p.m. (CDT).

ADDRESSES: The meeting will be held at the InterContinental Kansas City at the Plaza. 401 Ward Pkwy., Kansas City, MO 64112. Phone: (816) 756-1500.

Virtual Meeting Access: To register for the virtual broadcast, go to the following link: https://us02web.zoom.us/meeting/register/tZwof-6pqD0pEtKQwd6VNxomO5_MRJtJ470m.

Upon registration, you will receive a confirmation email with log-on details. Registration is available at any time prior to or during the meeting.

FOR FURTHER INFORMATION CONTACT: Alan Cassiday at (202) 245-0308, (717) 215-0635, or alan.cassiday@stb.gov.

SUPPLEMENTARY INFORMATION: The NGCC was established by the Interstate Commerce Commission (ICC) as a working group to facilitate private-sector solutions and provide recommendations to the ICC (and now the Surface Transportation Board (Board)) on matters affecting rail grain car availability and transportation. Nat'l Grain Car Supply—Conf. of Interested Parties, EP 519 (ICC served Jan. 7, 1994).

The general purpose of this meeting is to discuss rail carrier preparedness to transport the 2024 grain harvest. Agenda items include the following: remarks by NGCC Chair Jon Harman, Board Chairman Robert E. Primus, Board Vice Chairman and NGCC Co-Chair Karen J. Hedlund, and Board Members Patrick J. Fuchs and Michelle A. Schultz; reports by member groups on expectations for the upcoming harvest, domestic and foreign markets, the supply of rail cars, and rail service; and market and industry updates. The full agenda will be posted on the Board's website at https://prod.stb.gov/resources/stakeholder-committees/grain-car-council.

The meeting will be conducted pursuant to the Federal Advisory Committee Act, 5 U.S.C. app. 2; Federal Advisory Committee Management, 41 CFR 102-3; the NGCC charter; and Board procedures.

If you require an accommodation under the Americans with Disabilities Act for this meeting, please call (202) 245-0308 by August 21.

Public Attendance: This meeting is open to the public on a space-available first come first serve basis.

Public Comments: Members of the public may submit written comments to the NGCC at any time. Comments should be addressed to Alan Cassiday, Designated Federal Officer for the NGCC, at alan.cassiday@stb.gov. Any further communications about this meeting will be announced through the Board's website, www.stb.gov.

Decided: July 31, 2024.
By the Board, Scott M. Zimmerman, Acting Director, Office of Proceedings.
Stefan Rice,
Clearance Clerk.

[FR Doc. 2024-17287 Filed 8-5-24; 8:45 am]

BILLING CODE 4915-01-P